DEPARTMENT OF HOMELAND SECURITY

Coast Guard

33 CFR Part 117

[Docket No. USCG-2009-0104]

Drawbridge Operation Regulation; Atlantic Intracoastal Waterway, Jay Jay, FL

AGENCY: Coast Guard, DHS.

ACTION: Notice of temporary deviation from regulations.

SUMMARY: The Commander, Seventh Coast Guard District, has issued a temporary deviation from the regulation governing the operation of the NASA Railroad bridge across the Atlantic Intracoastal Waterway, mile 876.6, at Jay Jay, FL. The deviation is necessary to perform rehabilitation work on the bridge. This deviation allows the bridge to not open to vessel traffic from 7 a.m. until 11 a.m. and from 1 p.m. until 5 p.m., Monday through Friday except federal holidays until June 30, 2009; all other times the bridge will continue to operate in accordance with 33 CFR 117.261(j).

DATES: This deviation is effective from March 11, 2009, until June 30, 2009.

ADDRESSES: Documents indicated in this preamble as being available in the docket are part of docket USCG-2009-0104 and are available online at www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Commander (dpb), Seventh Coast Guard District, 909 SE. 1st Avenue, Room 432, Miami, Florida 33131-3028 between 8 a.m. and 4:30 p.m., Monday through Friday, except Federal holidays.

FOR FURTHER INFORMATION CONTACT: If you have questions on this rule, call Mr. Barry Dragon, Bridge Branch, Seventh Coast Guard District, at 305-415-6743. If you have questions on viewing the docket, call Renee V. Wright, Program Manager, Docket Operations, telephone 202-366-9826.

SUPPLEMENTARY INFORMATION: This deviation was requested by NASA, the bridge owner, in order to complete rehabilitation of the NASA Bridge, mile 876.6, of the Atlantic Intracoastal Waterway, Jay Jay, FL. The bridge has a vertical clearance of 7 feet in the closed position and a horizontal clearance of 90 feet. The work will require four hours of continuous closure followed by two hours for vessel passage followed by four hours of continuous closure, Monday through Friday except Federal holidays. The normal operating schedule for the bridge is in 33 CFR 117.261(j). The draw is normally in the fully open position and lowers upon command by operator of approaching train. This deviation is effective until June 30, 2009.

In accordance with 33 CFR 117.35(e), the drawbridge must return to its regular operating schedule immediately at the end of the designated time period. This deviation from the operating regulations is authorized under 33 CFR 117.35.

Dated: March 11, 2009.
R.S. Branham,
Rear Admiral, U.S. Coast Guard, Commander, Seventh Coast Guard District.

[FR Doc. E9-7258 Filed 3-31-09; 8:45 am]

BILLING CODE 4910-15-P